DEPARTMENT OF THE INTERIOR

National Park Service

Notice of Availability for a Final Environmental Impact Statement (FEIS) for the Feasibility Study on the Preservation of Civil War Battlefields and Related Historic Sites Along the Vicksburg Campaign Trail (VCT) in Arkansas, Kentucky, Louisiana, Mississippi, and Tennessee

SUMMARY: Pursuant to section 102(2) of the National Environmental Policy Act of 1969 and National Park Service (NPS) policy in Director's Order Number 12 (Conservation Planning, Environmental Impact Analysis, and Decision-making), the NPS announces the availability of a FEIS for the Feasibility Study on the Preservation of Civil War Battlefields and Related Historic Sites along the VCT in Arkansas, Kentucky, Louisiana, Mississippi, and Tennessee. The Feasibility Study examines almost 500 sites with a view to how they might best be preserved and linked.

ADDRESSES: Limited numbers of copies of the FEIS/Feasibility Study are available from Harlan Unrau, National Park Service, Denver Service Center—Planning, P.O. Box 25287, 12795 West Alameda Parkway, Denver, CO 80225-0287, or by calling (303)-969-2254. An electronic copy of the FEIS/Feasibility Study is available on the Internet at http://www.nps.gov/vick.

SUPPLEMENTARY INFORMATION: The Feasibility Study identified approximately 500 sites in five states that were associated with the Vicksburg Campaign. The study then evaluated and rated each site according to criteria established by the Civil War Sites Advisory Commission Report on the Nation's Civil War Battlefields (1993); sites were rated as Tier One (Decisive/Major), Tier Two (Formative), and Tier Three (Limited). As of May 2003, 19 Tier One, 26 Tier Two, 131 Tier Three, and 315 associated sites had been identified, for a total of 491 sites included in the VCT Feasibility Study.

The FEIS describes and analyzes the environmental impacts of three alternatives, including a no action alternative, for the future management direction of the VCT Initiative. NPS Preferred Alternative is Alternative C—Comprehensive Preservation. The intent of the proposed action is to link all sites associated with the VCT in a formally designated VCT Initiative. Legislation would be needed to establish the VCT Initiative, modeled after the legislation establishing the Underground Railroad Network to Freedom program.

Emphasis would be placed on protection of all sites associated with the VCT that have been recognized as being nationally significant, i.e., the Tier One Sites, through acquisition in fee or easement by Federal, State, or local agencies, and private organizations. It also anticipates that three of the sites (Champion Hill, Port Gibson, and Fort Heiman) encompassing approximately 2,000 acres could be added to the National Park System as boundary adjustments at existing units if authorized by Congress. In other cases the NPS could assist other managing authorities in the protection and preservation of other Tier One sites (e.g., Fort Pillow).

Protection of the Tier One sites would be part of a comprehensive effort that extends to the Tier Two and Three sites as well. For the Tier Two and Three sites, emphasis would be placed on protecting significant resource values through cooperation with public and private landowners to encourage compatible uses. Only if owners offered to sell and State, local, or private entities had funds available, would acquisition of fee or easement be considered.

The VCT Initiative would be established through congressional action with an overall management entity/advisory committee supplemented with working task forces from each State.

The draft Environmental Impact Statement for the VCT was released to the public on April 26, 2004. The public comment period ended June 24, 2004. No substantive comments were received on the draft document; consequently, no changes were made to the alternatives or environmental consequences.

FOR FURTHER INFORMATION CONTACT: Superintendent, Vicksburg National Military Park, 3201 Clay Street, Vicksburg, MS 39183, (601) 636-0583, or Harlan Unrau, National Park Service, Denver Service Center—Planning, P.O. Box 25287, 12795 W. Alameda Parkway, Denver, CO 80225-0287, (303) 969-2254.

The responsible official for this FEIS is Patricia A. Hooks, Regional Director, Southeast Region, National Park Service, 100 Alabama Street SW., 1924 Building, Atlanta, Georgia 30303.

Dated: February 1, 2005.
Patricia A. Hooks,
Regional Director, Southeast Region.

[FR Doc. 05-7912 Filed 4-19-05; 8:45 am]

BILLING CODE 4312-52-P